DEPARTMENT OF TRANSPORTATION

Federal Aviation Administration

Notice of Passenger Facility Charge (PFC) Approvals and Disapprovals

AGENCY: Federal Aviation Administration (FAA), DOT.

ACTION: Monthly notice of PFC approvals and disapprovals. In August 2001, there were seven applications approved. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Applications Approved

Public Agency: County of Emmet, Pellston, Michigan.

Application Number: 01-09-C-00-PLN.

Application Type: Impose and Use a PFC.

PFC Level: $3.00.

Total PFC Revenue Approved in This Decision: $709,567.

Earliest Charge Effective Date: June 1, 2002.

Estimated Charge Expiration Date: July 1, 2011.

Class of Air Carriers not Required to Collect PFC's: Air taxi/commercial operators filing FAA Form 1800-31.

Determination: Approved. Based on information contained in the public agency's application, the FAA has determined that the approved class accounts for less than 1 percent of the total annual enplanements at Pellston Regional Airport.

Brief Description of Projects Approved for Collection and Use:

Rehabilitate runway lighting.

Design for terminal expansion.

PFC application.

Wildlife study.

Terminal building expansion.

Perimeter road environmental assessment.

Aircraft apron expansion.

Parking lot renovation.

Brief Description of Projects Approved for Use:

Land acquisition.

Acquire sweeper.

Acquire snow blower.

Rehabilitate aircraft parking ramp.

Rehabilitate airport entrance road.

Replace snow removal equipment—plow truck

Brief Description of Project Approved for Collection: Aircraft deicing equipment.

Decision Date: August 7, 2001.

For Further Information Contact:

Arlene B. Draper, Detroit Airports District Office, (734) 487-7282.

Public Agency: City of St. George, Utah.

Application Number: 01-02-U-00-SGU.

Application Type: Use PFC revenue.

PFC Level: $3.00.

Total PFC Revenue to be Used in This Decision: $330,000.

Charge Effective Date: May 1, 1998.

Charge Expiration Date: September 1, 2002.

Class of Air Carriers not Required to Collect PFC's: No change from previous decision.

Brief Description of Projects Approved for Use:

Runway rehabilitation.

Terminal parking expansion.

Decision Date: August 9, 2001.

For Further Information Contact:

Chris Schaffer, Denver Airports District Office, (303) 342-1258.

Public Agency: City of North Bend, Oregon.

Application Number: 01-05-C-00-OTH.

Application Type: Impose and use a PFC.

PFC Level: $4.50.

Total PFC Revenue Approved in This Decision: $342,500.

Earliest Charge Effective Date: May 1, 2003.

Estimated Charge Expiration Date: August 1, 2006.

Class of Air Carriers Not Required to Collect PFC's: Nonscheduled air taxi/commercial operator utilizing aircraft having a seating capacity of less than 20 passengers.

Determination: Approved. Based on information contained in the public agency's application, the FAA has determined that the approved class accounts for less than 1 percent of the total annual enplanements at North Bend Municipal Airport.

Brief Description of Projects Approved for Collection and Use:

Rehabilitation of runway 13/31.

Acquisition of aircraft rescue and firefighting truck.

Master plan.

Rehabilitation of runway 4/22.

Brief Description of Project Approved For Use: Runway 13/31 safety area improvements project.

Decision Date: August 14, 2001.

For Further Information Contact:

Suzanne Lee-Pang, Seattle Airports District Office, (425) 227-2654.

Public Agency: Charlottesville-Albermarle Airport Authority, Charlottesville, Virginia.

Application Number: 01-14-C-00-CHO.

Application Type: Impose and use a PFC.

PFC Level: $3.00.

Total PFC Revenue Approved in This Decision: $220,000.

Earliest Charge Effective Date: June 1, 2004.

Estimated Charge Expiration Date: January 1, 2005.

Class of Air Carriers Not Required to Collect PFC's: Air taxi/commercial operators filing FAA Form 1800-31.

Determination: Approved. Based on information contained in the public agency's application, Based on information contained in the public agency's application, the FAA has determined that the approved class accounts for less than 1 percent of the total annual enplanements at Charlotteville-Albermarle Airport.

Brief Description of Projects Approved for Collection and Use:

Extend runway 3 safety area, phase III.

PFC project administration fees and annual administrative costs.

Air carrier terminal refurbishment (design), phase II.

Acquire snow removal equipment carrier vehicle.

Decision Date: August 15, 2001.

For Further Information Contact:

Arthur Winder, Washington Airports District Office, (703) 661-1363.

Public Agency: County of Dane, Madison, Wisconsin.

Application Number: 01-05-CC-00-MSN.

Application Type: Impose and use a PFC.

PFC Level: $4.50.

Total PFC Revenue Approved in This Decision: $46,656,115.

Earliest Charge Effective Date: December 1, 2006.

Estimated Charge Expiration Date: March 1, 2014.

Classes of Air Carriers Not Required to Collect PFC's: Air taxi/commercial operators filing FAA Form 1800-31.

Determination: Approved. Based on information contained in the public agency's application, the FAA has determined that the approved class accounts for less than 1 percent of the total annual enplanements at Dane County Regional Airport.

Brief Description of Projects Approved for Collection and Use:

Reconstruct taxiway E at east ramp.

Terminal expansion.

Terminal apron expansion and utility relocations.

Airfield storm water study and storm water improvements.

Decision Date: August 20, 2001.

For Further Information Contact:

Sandra E. DePottey, Minneapolis Airports District Office, (612) 713-4363.

Public Agency: City and Bureau of Juneau, Alaska.

Application Number: 01-05-C-00-JNU.

Application Type: Impose and use a PFC.

PFC Level: $4.50.

Total PFC Revenue Approved in This Decision: $650,000.

Earliest Charge Effective Date: January 1, 2002.

Estimated Charge Expiration Date: August 1, 2002.

Classes of Air Carriers not Required to Collect PFC's: None.

Brief Description of Projects Approved for Collection and Use:

Acquire snow removal equipment—sand truck.

Acquire snow removal equipment—snow blower replacement.

Decision Date: August 27, 2001.

For Further Information Contact:

Debbie Roth, Alaska Region Airports Division, (907) 271-5443.

Public Agency: City of San Antonio, Texas.

Application Number: 01-01-C-00-SAT.

Application Type: Impose and use a PFC.

PFC Level: $3.00.

Total PFC Revenue Approved in This Decision: $102,524,363.

Earliest Charge Effective Date: November 1, 2001.

Estimated Charge Expiration Date: November 1, 2009.

Classes of Air Carriers not Required to Collect PFC's: Air taxi/commercial operators operating under Part 135 and filing FAA Form 1800-31.

Determination: Approved. Based on information contained in the public agency's application, the FAA has determined that the approved class accounts for less than 1 percent of the total annual enplanements at San Antonio International Airport.

Brief Description of Projects Approved for Collection:

Residential noise attenuation.

Construct aircraft rescue and firefighting training facility.

Construct three high-speed taxiways.

Extend runway 21 and associated development.

Construct concourse B.

Construct concourse B access road.

Brief Description of Projects Approved for Collection and Use:

Construct runway 30L holding apron.

Modify wash rack apron.

Replace remain-overnight apron.

Rehabilitate terminals 1 and 2.

Reconstruct perimeter road.

Brief Description of Withdrawn Project: Environmental assessment and clean up.

Determination: This project was withdrawn from the application in the public agency's letter dated June 17, 2001. Therefore, the FAA did not rule on this project in this decision.

Decision Date: August 29, 2001.

For Further Information Contact:

G. Thomas Wade, Southwest Region Airports Division, (817) 222-5613.

Amendments to PFC Approvals
Amendment No., City, State | Amendment approved date | Original approved net PFC revenue | Amended approved net PFC revenue | Original estimated charge exp. date | Amended estimated charge exp. date
93-01-C-02-HVN | 07/02/01 | $1,108,060 | $983,636 | 04/01/98 | 04/01/98
New Haven, CT.
*99-03-C-01-RDM | 08/17/01 | 1,021,900 | 1,548,420 | 04/01/04 | 06/01/03
Redmond, OR.
99-02-C-01-GRB | 08/22/01 | 2,768,496 | 3,028,496 | 12/01/01 | 03/01/02
Green Bay, WI.
01-03-C-01-JNU | 08/24/01 | 310,551 | 371,748 | 12/01/01 | 01/01/02
Juneau, AK.
*01-05-C-01-ABE | 08/24/01 | 2,807,572 | 2,807,572 | 06/01/03 | 12/01/02
Allentown, PA.
98-02-C-03-JAN | 08/27/01 | 3,172,931 | 3,672,931 | 10/01/02 | 01/01/03
Jackson, MS.
98-03-C-01-SJT | 08/27/01 | 946,651 | 921,993 | 07/01/06 | 05/01/06
San Angelo, TX.
*94-01-C-04-MLI | 08/29/01 | 5,717,553 | 5,772,762 | 11/01/08 | 07/01/06
Moline, IL.
*98-02-C-02-MLI | 08/29/01 | 5,197,984 | 5,192,924 | 07/01/09 | 07/01/09
Moline, IL.
*99-03-C-01-MLI | 08/29/01 | 6,658,796 | 9,507,531 | 07/01/23 | 07/01/16
Moline, IL.
Note: The amendments denoted by an asterisk (*) include a change to the PFC level charged from $3.00 per enplaned passenger to $4.50 per enplaned passenger. For Redmond, OR and Allentown, PA this change is effective on November 1, 2001. For Moline, IL this change is effective on January 1, 2002.

Issued in Washington, DC, on October 11, 2001.
Eric Gabler,
Manager, Passenger Facility Charge Branch.

[FR Doc. 01-26313 Filed 10-17-01; 8:45 am]

BILLING CODE 4910-13-M